ENVIRONMENTAL PROTECTION AGENCY

40 CFR Part 70

[FRL-7773-3]

Clean Air Act Operating Permit Program; Petition for Objection to Proposed State Operating Permit for Shintech, Inc. and Its Affiliates Polyvinyl Chloride (PVC) Plant, Addis, West Baton Rouge Parish, LA

AGENCY: Environmental Protection Agency (EPA).

ACTION: Notice of final order on petition to object to State operating permit.

SUMMARY: This notice announces that the EPA Administrator has denied a petition to object to a State operating permit issued by the Louisiana Department of Environmental Quality for Shintech, Inc. and its Affiliates (Shintech) PVC plant in Addis, West Baton Rouge Parish, Louisiana. Pursuant to section 505(b)(2) of the Clean Air Act (Act), the Petitioners may seek judicial review of those portions of the petition which EPA denied in the United States Court of Appeals for the appropriate circuit within 60 days of this decision under Section 307 of the Act.

ADDRESSES: You may review copies of the final order, the petition, and other supporting information at EPA, Region 6, 1445 Ross Avenue, Dallas, TX 75202-2733. If you wish to examine these documents, you should make an appointment at least 24 hours before visiting day. The final order is also available electronically at the following address: http://kodiak.r07.epa.gov/region07/programs/artd/air/title5/petitiondb/petitions/shintech_decision1999.pdf.

FOR FURTHER INFORMATION CONTACT: Mr. Rick Barrett, Air Permits Section, Multimedia Planning and Permitting Division, EPA, Region 6, 1445 Ross Avenue, Dallas, TX 75202-2733, telephone (214) 665-7227, or e-mail at barrett.richard@epa.gov.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

On August 31, 1999, Ms. Marylee Orr, on behalf of the Alliance Against Waste and Action to Restore the Environment and the Louisiana Environmental Action Network (petitioner), petitioned EPA to object to the issuance of a permit to Shintech Inc. and its Affiliates (Shintech). The petition raised six objections to the Shintech permit: (1) The permit will inhibit reasonable further progress in the Baton Rouge ozone nonattainment area, and as such, is not in accordance with the Act; (2) the most recent State Implementation Plan dated January 2, 1997, fails to meet the requirements of section 182(c)(2)(A) of the Act in that it fails to provide for attainment of the ozone standard by the applicable attainment date; (3) although the proposed plant is considered a minor source, it will become a major source when the area is reclassified to severe,¹ and thus should be required to meet the prevention of significant deterioration and reasonably available control technology requirements now because it is easier to apply these requirements prior to construction than after operation begins; (4) certain emission calculations in the permit application are incorrect; (5) the proposed permit does not meet the appropriate maximum achievable control technology standards; and (6) EPA Region 6 management failures.

¹ The Baton Rouge nonattainment area was recently reclassified as a severe nonattainment area for ozone. 68 FR 20077 (April 24, 2003).

On July 3, 2003, the Administrator issued an order denying the petition. The order explains the reasons for the Administrator's decision.

Dated: May 28, 2004.
Richard E. Greene,
Regional Administrator, Region 6.

[FR Doc. 04-13408 Filed 6-14-04; 8:45 am]

BILLING CODE 6560-50-P